DEPARTMENT OF ENERGY

Federal Energy Regulatory Commission

[Project No. 2839-015]

Village of Lyndonville Electric Department; Notice of Comment Period Extension

On December 17, 2018, Commission staff issued notice that the Village of Lyndonville Electric Department's license application for the Great Falls Hydroelectric Project No. 2839 was ready for environmental analysis. The notice established a deadline of February 15, 2019 for filing motions to intervene and protests, comments, recommendations, terms and conditions, and prescriptions. The notice also established a deadline of April 1, 2019 for filing reply comments. Due to the funding lapse at certain federal agencies between December 22, 2018 and January 25, 2019, the Commission is extending the initial filing deadline to March 22, 2019 and the deadline for reply comments to May 6, 2019.

Dated: February 8, 2019.
Kimberly D. Bose,
Secretary.

[FR Doc. 2019-02339 Filed 2-13-19; 8:45 am]

BILLING CODE 6717-01-P